DEPARTMENT OF HEALTH AND HUMAN SERVICES

Centers for Disease Control and Prevention

Disease, Disability, and Injury Prevention and Control Special Emphasis Panel (SEP): Initial Review

The meeting announced below concerns the CDC National Centers for Excellence in Youth Violence Prevention: Operations Research (Implementation Science) for Strengthening Program Implementation through the President's Emergency Plan for AIDS Relief (PEPFAR), RFA-GH-16-005, initial review.

SUMMARY: This publication corrects a notice that was published in the Federal Register on March 22, 2016 Volume 81, Number 55, pages 15307. The meeting place should read as follows:

DATES: Times and Dates:

9:00 a.m.-2:00 p.m., EDT, Panel A, April 26, 2016 (Closed)

9:00 a.m.-2:00 p.m., EDT, Panel B, April 27, 2016 (Closed)

FOR FURTHER INFORMATION CONTACT: Hylan Shoob, Scientific Review Officer, Center for Global Health (CGH) Science Office, CGH, CDC, 1600 Clifton Road NE., Mailstop D-69, Atlanta, Georgia 30033, Telephone: (404) 639-4796, HMS4@CDC.GOV.

The Director, Management Analysis and Services Office, has been delegated the authority to sign Federal Register notices pertaining to announcements of meetings and other committee management activities, for both the Centers for Disease Control and Prevention and the Agency for Toxic Substances and Disease Registry.

Elaine L. Baker,
Acting Director, Management Analysis and Services Office, Centers for Disease Control and Prevention.

[FR Doc. 2016-09269 Filed 4-20-16; 8:45 am]

BILLING CODE 4163-18-P